SMALL BUSINESS ADMINISTRATION

Region IV North Florida; Jacksonville, Florida District Advisory Council; Public Meeting

The U.S. Small Business Administration, Region IV North Florida District Advisory Council, will hold a public meeting on April 12, 2001, at 12 p.m. to 2 p.m., at the Citrus Club, 1800 Republic Bank Tower (Citrus Center), 255 S. Orange Avenue, Orlando, Florida, to discuss such matters as may be presented by members, staff of the U.S. Small Business Administration or others present. For further information, write or call Ms. Claudia D. Taylor, U.S. Small Business Administration, 7825 Baymeadows Way, Suite 100-B, Jacksonville, Florida 32256; telephone (904) 443-1933.

Nancyellen Gentile,
Committee Management Officer.

[FR Doc. 01-6860 Filed 3-19-01; 8:45 am]

BILLING CODE 8025-01-U